SMALL BUSINESS ADMINISTRATION

[Disaster Declaration #18061 and #18062; Hawaii Disaster Number HI-00073]

Presidential Declaration Amendment of a Major Disaster for the State of Hawaii

AGENCY: Small Business Administration.

ACTION: Correction to amendment 5.

SUMMARY: This is a correction to the amendment of the Presidential declaration of a major disaster for the State of Hawaii (FEMA-4724-DR), dated 08/10/2023.

Incident: Wildfires, including High Winds.

Incident Period: 08/08/2023 through 09/30/2023.

DATES: Issued on 11/27/2023.

Physical Loan Application Deadline Date: 12/11/2023.

Economic Injury (EIDL) Loan Application Deadline Date: 05/10/2024.

ADDRESSES: Visit the MySBA Loan Portal at https://lending.sba.gov to apply for disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Hawaii, dated 08/10/2023, is hereby corrected to reflect the deadline for filing applications for physical damages as a result of this disaster to 12/11/2023.

All other information in the original declaration remains unchanged.

(Catalog of Federal Domestic Assistance Number 59008)

Francisco Sánchez, Jr.,
Associate Administrator, Office of Disaster Recovery & Resilience.

[FR Doc. 2023-26559 Filed 12-1-23; 8:45 am]

BILLING CODE 8026-09-P